DEPARTMENT OF AGRICULTURE

Forest Service

Meadow Face Stewardship Pilot Project, Nez Perce National Forest, Idaho County, ID

AGENCY: Forest Service, USDA.

ACTION: Notice; intent to prepare environmental impact statement. (Authority: 40 CFR 1501.7)

SUMMARY: The Forest Service will prepare an environmental impact statement to disclose the environmental impacts of implementing vegetation and watershed restoration activities and modification of the transportation system within the Meadow Face analysis area. Individuals interested in actions of this nature are encouraged to submit comments and become involved in the planning process.

DATES: Comments concerning the scope of the analysis should be received at the address below on or before April 6, 2001.

ADDRESSES: Send written comments to Darcy Pederson, District Ranger, Route 2 Box 475, Grangeville, ID 83530.

FOR FURTHER INFORMATION CONTACT: Heather Berg, Project Coordinator, (208) 983-1983.

SUPPLEMENTARY INFORMATION: The Meadow Face Stewardship Pilot Project area is located on the Nez Perce National Forest in northern Idaho within Idaho County. The project area lies approximately 7 air miles southeast of Grangeville Idaho. The project area encompasses 27,000 acres and includes Meadow, Wickiup and Ralph Smith Creek watersheds, which drain directly into the South Fork Clearwater River.

The Meadow Face Stewardship Pilot Project was authorized under the 1999 Department of Interior Appropriations Bill (Section 347). This legislation authorized 28 pilot projects to test contracting mechanisms that allow the exchange of goods for services, retention of receipts, and end-result rather than prescriptive contract specifications. The legislative intent includes meeting local and rural community needs and provided a clear expectation for the pilot projects to be developed cooperatively with local and affected communities.

The proposed activities described below were developed cooperatively with a local citizens group called the Stewards of the Nez Perce Forest. This group worked with the Forest Service to review the ecological conditions in the analysis area as described in the South Fork Clearwater River Landscape Assessment (USFS, Nez Perce National Forest, 1998) and Meadow Face Ecosystem Assessment at the Watershed Scale (USFS, Nez Perce National Forest, 1999) and make recommendations for actions to address current undesirable conditions while meeting the objectives of the Nez Perce Forest Plan.

The actions proposed for implementation include modifying vegetation through timber harvest and prescribed burning to achieve forest conditions which more closely resemble historic. The analysis area includes both low elevation, dry, ponderosa pine and mid-elevation, moist, fir vegetation types. Due to fire suppression and other past management activities the vegetation is denser with increased shrubs and small trees. These conditions result in increased fire risk and susceptibility to drought, insects and disease. To address these conditions, approximately 5700 acres of harvest and 7300 acres of prescribed burning is proposed.

In addition to the vegetation conditions described above, the analysis area has non-native and noxious plant species present. To address this condition, approximately 230 acres of herbicide application and native species restoration is proposed.

As part of the Meadow Face proposal, the transportation system of roads and trails in the area would also be modified to reduce adverse effects of the road system on forest resources, particularly soil and water. To address these conditions, approximately 80 miles of road decommissioning would occur. Road decommissioning would return these road segments to forest production and they would no longer be available as transportation routes.

Some streams in the analysis area have been affected by the transportation system, past vegetation manamagement and grazing. These streams would be restored by relocating the channels to their natural course, addition of woody debris and rock structures, and revegetation. These activities would occur in approximately 5 miles of stream.

Following the cooperative project development process, the proposed actions were scoped with the public in the summer of 2000 including a direct mailing to over 400 individuals in August and a field trip in September. Approximately 20 letters were received in response to the original scoping, and 27 individual attended the field trip. Based on the comments received, the following issues with the proposed action been identified: (1) Effects to the aquatic environment; (2) Effects to old and mature forest and dependent species; (3) Use of timber harvest, prescribed burning and herbicides as forest management tools and; (4) Effects to motorized recreation opportunities.

To address the issues identified above, alternatives to the proposed action have been developed. These alternatives propose varying levels of activities from those previously described. Some alternatives would require amendment of the Nez Perce Forest Plan to allow vegetation management within delineated old growth (Management Area 20). Some of the harvest proposed would exceed 40 acres in size and would require approval from the Regional Forester (Northern Region). Some of the activities associated with road repair and decommissioning and stream channel restoration would require permits from the Corps of Engineers to authorize work within a stream's high water mark.

The decisions to be made in response to this analysis include (1) Are vegetation management activities needed and if so where, when and how would they be implemented? (2) What transportation system is necessary in the analysis area and how will it be managed? (3) How will the roads identified as excess be returned to forest production? (4) Are the stream channel restoration activities necessary and if so where, when and how would they be implemented? (5) What mitigation is needed to assure forest management activities are consistent with the Nez Perce Forest Plan and environmental law? (6) Is an amendment to the Nez Perce Forest Plan necessary to implement the proposed actions? (7) What implementation and effectiveness monitoring is needed?

The responsible official for this project is the Nez Perce Forest Supervisor. Comments to this notice should be sent to the address and contacts identified above and should be submitted within 30 days of publication of this notice in the Federal Register. A Draft Environmental Impact Statement (EIS) is expected to be available in April 2001 and a Final EIS in July 2001. Should an action alternative be selected, implementation would be initiated in 2002. Implementation of any or all of the actions authorized with this decision may occur utilizing the stewardship contracting authorities granted in Section 347 of the 1999 Interior Appropriations Bill.

The comment period on the draft environmental impact statement will be 45 days from the date the Environmental Protection Agency publishes the notice of availability in the Federal Register.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. (Reviewers may wish to refer to the Council on Environmental Quality Regulations for implementing the procedural provisions of the National Environmental Policy Act at 40 CFR 1503.3 in addressing these points.).

Dated: February 27, 2001.
Michael J. Cook,
Acting Forest Supervisor, Nez Perce National Forest.

[FR Doc. 01-5593 Filed 3-6-01; 8:45 am]

BILLING CODE 3410-11-M